SMALL BUSINESS ADMINISTRATION

[Disaster Declaration #17001 and #17002; Louisiana Disaster Number LA-00113]

Presidential Declaration Amendment of a Major Disaster for Public Assistance Only for the State of Louisiana

AGENCY: Small Business Administration.

ACTION: Amendment 1.

SUMMARY: This is an amendment of the Presidential declaration of a major disaster for Public Assistance Only for the State of Louisiana (FEMA-4590-DR), dated 06/22/2021.

Incident: Severe Winter Storms.

Incident Period: 02/11/2021 through 02/19/2021.

DATES: Issued on 07/09/2021.

Physical Loan Application Deadline Date: 08/23/2021.

Economic Injury (EIDL) Loan Application Deadline Date: 03/22/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Louisiana, dated 06/22/2021, is hereby amended to include the following areas as adversely affected by the disaster.

Primary Parishes: Bienville, Calcasieu, Caldwell, Claiborne, Franklin, Iberville, Livingston, Natchitoches, Rapides, Richland, Sabine, Tensas, Webster, West Carroll.

All other information in the original declaration remains unchanged.

(Catalog of Federal Domestic Assistance Number 59008)

James Rivera,
Associate Administrator, for Disaster Assistance.

[FR Doc. 2021-15268 Filed 7-16-21; 8:45 am]

BILLING CODE 8026-03-P